DEPARTMENT OF COMMERCE

Patent and Trademark Office

Agency Information Collection Activities; Submission to the Office of Management and Budget (OMB) for Review and Approval; Comment Request; International Work Sharing Program

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on December 14, 2021 during a 60-day comment period. This notice allows for an additional 30 days for public comments.

Agency: United States Patent and Trademark Office, Department of Commerce.

Title: International Work Sharing Program.

OMB Control Number: 0651-0079.

Needs and Uses: The United States Patent and Trademark Office (USPTO) established a Work Sharing Pilot Program in conjunction with the Japan Patent Office (JPO) and the Korean Intellectual Property Office (KIPO) to study how the exchange of search results between offices for corresponding counterpart applications improves patent quality and facilitates the examination of patent applications in both offices. Under this Work Sharing Pilot Program, two Collaborative Search Pilot (CSP) programs—USPTO-JPO and USPTO-KIPO—have been implemented.

Through their respective CSP(s), each office concurrently conducts searches on corresponding counterpart applications. The exchange of information and documents between IP offices benefits applicants by promoting compact prosecution, reducing pendency, and supporting patent quality by reducing the likelihood of inconsistencies in patentability determinations among IP offices when considering corresponding counterpart applications. The gains in efficiency and quality are achieved through a collaborative work sharing approach to the evaluation of patent claims. As a result of this exchange of search reports, the examiners in both offices may have a more comprehensive set of references before them when making an initial patentability determination.

This information collection is comprised of four items: The Petition to Make Special Under the Expanded Collaborative Search Pilot Program; Petition for Participation in the CSP Program Between the JPO and the USPTO; the Petition for Participation in the CSP Program Between the KIPO and the USPTO; and the CSP Survey. The Petitions to Make Special and for Participation are used by patent applicants to request participation in the CSP Program. The CSP Survey is used to collect feedback on the program's value, monitor usage of the program, and to measure the benefits the program provides to participants.

Forms:

• PTO/437 (Petition to Make Special Under the Expanded Collaborative Search Pilot Program)

• PTO/437-JP (Petition for Participation in the Collaborative Search Pilot (CSP) Program Between the Japan Patent Office (JPO) and the USPTO)

• PTO/437-KR (Petition for Participation in the Collaborative Search Pilot (CSP) Program Between the Korean Intellectual Property Office (KIPO) and the USPTO)

• PTO/461 (Collaborative Search Pilot Program Survey)

Type of Review: Extension and revision of a currently approved information collection.

Affected Public: Private sector; individuals or households.

Respondent's Obligation: Required to obtain or retain benefits.

Frequency: On occasion.

Estimated Number of Annual Respondents: 96 respondents.

Estimated Number of Annual Responses: 190 responses.

Estimated Time per Response: The USPTO estimates that the responses in this information collection will take the public approximately between 5 minutes (0.08 hours) and 3 hours (240 minutes) to complete. This includes the time to gather the necessary information, create the document, and submit the completed request to the USPTO.

Estimated Total Annual Respondent Burden Hours: 445 hours.

Estimated Total Annual Respondent Non-Hourly Cost Burden: $0.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0079.

Further information can be obtained by:

• Email: InformationCollection@uspto.gov. Include “0651-0079 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2022-06321 Filed 3-24-22; 8:45 am]

BILLING CODE 3510-16-P